DEPARTMENT OF ENERGY

Federal Energy Regulatory Commission

Combined Notice of Filings #1

Take notice that the Commission received the following electric rate filings:

Docket Numbers: ER17-580-000.

Applicants: RET Modesto Solar LLC.

Description: Supplement to December 19, 2016 RET Modesto Solar LLC tariff filing (Notice of Change in Status).

Filed Date: 1/31/17.

Accession Number: 20170131-5432.

Comments Due: 5 p.m. ET 2/21/17.

Docket Numbers: ER17-582-001.

Applicants: Westside Solar, LLC.

Description: Tariff Amendment: Westside Solar, LLC Amendment to the Application for MBR Authority to be effective 2/17/2017.

Filed Date: 2/6/17.

Accession Number: 20170206-5194.

Comments Due: 5 p.m. ET 2/27/17.

Docket Numbers: ER17-583-001.

Applicants: Whitney Point Solar, LLC.

Description: Tariff Amendment: Whitney Point Solar, LLC Amendment to the Application for MBR Authority to be effective 2/17/2017.

Filed Date: 2/6/17.

Accession Number: 20170206-5196.

Comments Due: 5 p.m. ET 2/27/17.

Docket Numbers: ER17-944-000.

Applicants: PJM Interconnection, L.L.C.

Description: § 205(d) Rate Filing: Second Revised Service Agreement No. 3276, Queue No. X1-012 to be effective 1/24/2017.

Filed Date: 2/7/17.

Accession Number: 20170207-5039.

Comments Due: 5 p.m. ET 2/28/17.

Take notice that the Commission received the following electric securities filings:

Docket Numbers: ES17-7-000.

Applicants: Mid-Atlantic Interstate Transmission, LLC.

Description: Amendment to October 28, 2016 Application of Mid-Atlantic Interstate Transmission, LLC for Authorization Under Section 204 of the Federal Power Act.

Filed Date: 2/3/17.

Accession Number: 20170203-5114.

Comments Due: 5 p.m. ET 2/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2017.
Nathaniel J. Davis, Sr.,
Deputy Secretary.

[FR Doc. 2017-02999 Filed 2-14-17; 8:45 am]

BILLING CODE 6717-01-P